DEPARTMENT OF THE INTERIOR

Bureau of Land Management

[LLNV952000 L14200000.BJ0000 241A; 12-08807; MO# 4500031675; TAS: 14X1109]

Filing of Plats of Survey; Nevada

AGENCY: Bureau of Land Management, Interior.

ACTION: Notice.

SUMMARY: The purpose of this notice is to inform the public and interested State and local government officials of the filing of Plats of Survey in Nevada.

DATES: Effective Dates: Filing is effective at 10 a.m. on the dates indicated below.

FOR FURTHER INFORMATION CONTACT: David D. Morlan, Chief, Branch of Geographic Sciences, Bureau of Land Management, Nevada State Office, 1340 Financial Blvd., P.O. Box 12000, Reno, Nevada 89520, (775) 861-6541. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION:

1. The Plat of Survey of the following described lands was officially filed at the Nevada State Office, Reno, Nevada on October 17, 2011:

This plat represents the dependent resurvey of a portion of north boundary, a portion of the subdivisional lines, and a portion of Mineral Survey No. 2534 B, and the metes-and-bounds survey of Lot 14 in section 3, Township 3 South, Range 42 East, Mount Diablo Meridian, Nevada, under Group No. 907, was accepted on October 13, 2011. This survey was executed to meet certain administrative needs of the Bureau of Land Management.

The above-listed survey is now the basic record for describing the lands for all authorized purposes. This survey has been placed in the open files in the Bureau of Land Management, Nevada State Office and is available to the public as a matter of information. Copies of the survey and related field notes may be furnished to the public upon payment of the appropriate fees.

Dated: January 30, 2012.
David D. Morlan,
Chief Cadastral Surveyor, Nevada.

[FR Doc. 2012-2697 Filed 2-6-12; 8:45 am]

BILLING CODE 4310-HC-P